DEPARTMENT OF ENERGY

Federal Energy Regulatory Commission

[Docket No. RP01-212-000]

Gulf South Pipeline Company, LP; Notice of Waiver Request

January 30, 2001.

Take notice that on January 23, 2001 Gulf South Pipeline Company, LP (Gulf South) tendered for filing a request for a one-time waiver of certain notice and filing requirements of Section 13.3 of its FERC Gas Tariff, Sixth Revised Volume 1, relating to accepting small customer exemption affidavits out of time. Gulf South requests that it be allowed to accept the small customer affidavits.

Gulf South states that copies of this filing have been served upon Gulf South's customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before February 5, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2929 Filed 2-2-01; 8:45 am]

BILLING CODE 6717-01-M